DEPARTMENT OF HOMELAND SECURITY

Customs and Border Protection

Agency Information Collection Activities: Visa Waiver Program Carrier Agreement (Form I-775)

AGENCY: U.S. Customs and Border Protection (CBP), Department of Homeland Security.

ACTION: 60-Day notice and request for comments; Revision of an existing information collection: 1651-0110.

SUMMARY: As part of its continuing effort to reduce paperwork and respondent burden, CBP invites the general public and other Federal agencies to comment on the Visa Waiver Program Carrier Agreement (Form I-775). This request for comment is being made pursuant to the Paperwork Reduction Act of 1995 (Pub. L. 104-13; 44 U.S.C. 3505(c)(2)).

DATES: Written comments should be received on or before January 19, 2010, to be assured of consideration.

ADDRESSES: Direct all written comments to U.S. Customs and Border Protection, Attn: Tracey Denning, Office of Regulations and Rulings, 799 9th Street, NW., 7th Floor, Washington, DC 20229-1177.

FOR FURTHER INFORMATION CONTACT: Requests for additional information should be directed to Tracey Denning, U.S. Customs and Border Protection, Office of Regulations and Rulings, 799 9th Street, NW., 7th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the request for Office of Management and Budget (OMB) approval. All comments will become a matter of public record. In this document the CBP is soliciting comments concerning the following information collection:

Title: Visa Waiver Program Carrier Agreement .

OMB Number: 1651-0110.

Form Number: I-775.

Abstract: Pursuant to section 217 of the Immigration and Nationality Act (INA), paragraphs (a) and (e) and 8 CFR 217.6, all carriers must enter into an agreement with CBP in order to transport passengers to the United States under the Visa Waiver Program (VWP). Form I-775 functions as the agreement between CBP and carriers, serving to hold the carriers liable for transportation costs and to ensure the completion of required forms. CBP is proposing to adjust the burden hours for this collection of information because the estimated response time has decreased from 2 hours to 30 minutes.

CBP is also proposing to add new provisions to this Agreement including: (1) A prohibition on transporting any alien who is not authorized by the Electronic System for Travel Authorization (ESTA) to travel to the United States under the VWP; (2) a requirement that carriers applying to become signatory to a visa waiver contract with CBP have must have paid all their User Fee obligations and any previous penalties under the INA or U.S. Customs laws; (3) a requirement that carriers applying to become signatory to the VWP with CBP must post a bond sufficient to cover the total penalty amounts for violations that were imposed against the carrier during the previous fiscal year; (4) a provision that if the carrier ceases operations in the United States, then the agreement becomes null and void; and, (5) a provision that the Agreement must be renewed every seven years. In addition, CBP proposes to add a statement to Form I-775 regarding the submission of electronic arrival and departure manifests by carriers, which is an existing requirement provided under 8 CFR 217.7(a) and (b).

Current Actions: This submission is being made to extend the expiration date with a revision to the burden hours.

Type of Review: Extension (with change).

Affected Public: Businesses.

Estimated Number of Respondents: 400.

Estimated Time per Respondent: 30 minutes.

Estimated Total Annual Burden Hours: 200.

Dated: November 17, 2009.
Tracey Denning,
Agency Clearance Officer, U.S. Customs and Border Protection.

[FR Doc. E9-27904 Filed 11-19-09; 8:45 am]

BILLING CODE 9111-14-P